DEPARTMENT OF ENERGY

Federal Energy Regulatory Commission

Combined Notice of Filings

Take notice that the Commission has received the following Natural Gas Pipeline Rate and Refund Report filings:

Docket Number: PR21-28-000.

Applicants: Columbia Gas of Ohio, Inc.

Description: Tariff filing per 284.123(b),(e)/: COH Rates effective Jan 29 2021 to be effective 1/29/2021 under PR21-28.

Filed Date: 2/9/2021.

Accession Number: 202102095078.

Comments/Protests Due: 5 p.m. ET 3/2/2021.

Docket Numbers: RP21-427-001.

Applicants: LA Storage, LLC.

Description: Tariff Amendment: Filing of Negotiated Rate, Conforming IW Agreements (Amendment) to be effective 1/1/2021.

Filed Date: 2/8/21.

Accession Number: 20210208-5127.

Comments Due: 5 p.m. ET 2/22/21.

Docket Numbers: RP20-1111-004.

Applicants: Transcontinental Gas Pipe Line Company, LLC.

Description: Compliance filing GT&C Section 49—Bid Evaluation—Compliance Filing 2 to be effective 3/12/2021.

Filed Date: 2/9/21.

Accession Number: 20210209-5081.

Comments Due: 5 p.m. ET 2/22/21.

Docket Numbers: RP21-466-000.

Applicants: Viking Gas Transmission Company.

Description: § 4(d) Rate Filing: Negotiated Rate PAL Agreement—World Fuel to be effective 2/10/2021.

Filed Date: 2/9/21.

Accession Number: 20210209-5132.

Comments Due: 5 p.m. ET 2/22/21.

Docket Numbers: RP21-467-000.

Applicants: Alliance Pipeline L.P.

Description: § 4(d) Rate Filing: Future Sales of Capacity Filing to be effective 3/11/2021.

Filed Date: 2/9/21.

Accession Number: 20210209-5137.

Comments Due: 5 p.m. ET 2/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2021.
Nathaniel J. Davis, Sr.,
Deputy Secretary.

[FR Doc. 2021-03146 Filed 2-16-21; 8:45 am]

BILLING CODE 6717-01-P